DEPARTMENT OF TRANSPORTATION

Federal Aviation Administration

14 CFR Part 39

[Docket No. FAA-2009-0792; Directorate Identifier 2009-NM-057-AD]

RIN 2120-AA64

Airworthiness Directives; Bombardier Model CL-600-2C10 (Regional Jet Series 700, 701, & 702), Model CL-600-2D15 (Regional Jet Series 705), and Model CL-600-2D24 (Regional Jet Series 900) Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

Bombardier Aerospace has completed a system safety review of the CL-600-2C10/CL600-2D15/CL-600-2D24 aircraft fuel system against the new fuel tank safety standards, introduced in Chapter 525 of the Airworthiness Manual through Notice of Proposed Amendment (NPA) 2002-043. The identified non-compliances were assessed using Transport Canada Policy Letter No. 525-001 to determine if mandatory corrective action was required.

The assessment showed that certain hydraulic system failure scenarios could lead to a rapid overheat in the hydraulic lines without giving flight crew sufficient time to react before the No. 1 and No. 2 hydraulic system tubing inside the fuel tank reaches the fuel auto ignition temperature. This could result in a fuel tank explosion.

* * * * *

The proposed AD would require actions that are intended to address the unsafe condition described in the MCAI.

DATES: We must receive comments on this proposed AD by November 12, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC, between 9 a.m. and 5 p.m., Monday through Friday, except Federal holidays.

For service information identified in this proposed AD, contact Bombardier, Inc., 400 Côte-Vertu Road West, Dorval, Québec H4S 1Y9, Canada; telephone 514-855-5000; fax 514-855-7401; e-mail thd.crj@aero.bombardier.com; Internet http://www.bombardier.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Christopher Alfano, Aerospace Engineer, Airframe and Propulsion Branch, ANE-171, FAA, New York Aircraft Certification Office, 1600 Stewart Avenue, Suite 410, Westbury, New York 11590; telephone (516) 228-7340; fax (516) 794-5531.

SUPPLEMENTARY INFORMATION:

Comments Invited

We invite you to send any written relevant data, views, or arguments about this proposed AD. Send your comments to an address listed under the ADDRESSES section. Include “Docket No. FAA-2009-0792; Directorate Identifier 2009-NM-057-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

Transport Canada Civil Aviation, which is the aviation authority for Canada, has issued Canadian Airworthiness Directive CF-2009-09, dated March 9, 2009 (referred to after this as “the MCAI”), to correct an unsafe condition for the specified products. The MCAI states:

Bombardier Aerospace has completed a system safety review of the CL-600-2C10/CL600-2D15/CL-600-2D24 aircraft fuel system against the new fuel tank safety standards, introduced in Chapter 525 of the Airworthiness Manual through Notice of Proposed Amendment (NPA) 2002-043. The identified non-compliances were assessed using Transport Canada Policy Letter No. 525-001 to determine if mandatory corrective action was required.

The assessment showed that certain hydraulic system failure scenarios could lead to a rapid overheat in the hydraulic lines without giving flight crew sufficient time to react before the No. 1 and No. 2 hydraulic system tubing inside the fuel tank reaches the fuel auto ignition temperature. This could result in a fuel tank explosion.

To correct the unsafe condition, this [Canadian airworthiness] directive mandates the installation of thermal fuses in the No. 1 and No. 2 hydraulic systems and the introduction of Fuel System Limitations (FSL) and Critical Design Configuration Control Limitations (CDCCL) associated with this design change.

You may obtain further information by examining the MCAI in the AD docket.

The FAA has examined the underlying safety issues involved in fuel tank explosions on several large transport airplanes, including the adequacy of existing regulations, the service history of airplanes subject to those regulations, and existing maintenance practices for fuel tank systems. As a result of those findings, we issued a regulation titled “Transport Airplane Fuel Tank System Design Review, Flammability Reduction and Maintenance and Inspection Requirements” (66 FR 23086, May 7, 2001). In addition to new airworthiness standards for transport airplanes and new maintenance requirements, this rule included Special Federal Aviation Regulation No. 88 (“SFAR 88,” Amendment 21-78, and subsequent Amendments 21-82 and 21-83).

Among other actions, SFAR 88 requires certain type design (i.e., type certificate (TC) and supplemental type certificate (STC)) holders to substantiate that their fuel tank systems can prevent ignition sources in the fuel tanks. This requirement applies to type design holders for large turbine-powered transport airplanes and for subsequent modifications to those airplanes. It requires them to perform design reviews and to develop design changes and maintenance procedures if their designs do not meet the new fuel tank safety standards. As explained in the preamble to the rule, we intended to adopt airworthiness directives to mandate any changes found necessary to address unsafe conditions identified as a result of these reviews.

In evaluating these design reviews, we have established four criteria intended to define the unsafe conditions associated with fuel tank systems that require corrective actions. The percentage of operating time during which fuel tanks are exposed to flammable conditions is one of these criteria. The other three criteria address the failure types under evaluation: single failures, single failures in combination with a latent condition(s), and in-service failure experience. For all four criteria, the evaluations included consideration of previous actions taken that may mitigate the need for further action.

Relevant Service Information

Bombardier has issued Service Bulletin 670BA-29-005, Revision A, dated January 29, 2009; Bombardier Temporary Revision 2-268, dated December 18, 2008, to Section 3, “Fuel System Limitations,” of Part 2 of the Bombardier CL-600-2C10, CL-600-2D15, and CL-600-2D24 Maintenance Requirements Manual; and Bombardier Temporary Revision 2-269, dated December 18, 2008, to Section 3, “Fuel System Limitations,” of Part 2 of the Bombardier CL-600-2C10, CL-600-2D15, and CL-600-2D24 Maintenance Requirements Manual. The actions described in this service information are intended to correct the unsafe condition identified in the MCAI.

FAA's Determination and Requirements of this Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences between this AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 334 products of U.S. registry. We also estimate that it would take about 45 work-hours per product to comply with the basic requirements of this proposed AD. The average labor rate is $80 per work-hour. Required parts would cost about $6,765 per product. Where the service information lists required parts costs that are covered under warranty, we have assumed that there will be no charge for these costs. As we do not control warranty coverage for affected parties, some parties may incur costs higher than estimated here. Based on these figures, we estimate the cost of the proposed AD on U.S. operators to be $3,461,910, or $10,365 per product.

Authority for this Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Bombardier Inc. (Formerly Canadair): Docket No. FAA-2009-0792; Directorate Identifier 2009-NM-057-AD.

Comments Due Date

(a) We must receive comments by November 12, 2009.

Affected ADs

(b) None.

Applicability

(c) This AD applies to Bombardier Model CL-600-2C10 (Regional Jet Series 700, 701, & 702), airplanes; certificated in any category, having serial numbers 10003 through 10267 inclusive; and Bombardier Model CL-600-2D15 (Regional Jet Series 705) and CL-600-2D24 (Regional Jet Series 900), certificated in any category, having serial numbers 15001 through 15199 inclusive, 15202, and 15204.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (g) of this AD. The request should include a description of changes to the required inspections that will ensure the continued operational safety of the airplane.

Subject

(d) Air Transport Association (ATA) of America Code 29: Hydraulic power.

Reason

(e) The mandatory continuing airworthiness information (MCAI) states:

Bombardier Aerospace has completed a system safety review of the CL-600-2C10/CL600-2D15/CL-600-2D24 aircraft fuel system against the new fuel tank safety standards, introduced in Chapter 525 of the Airworthiness Manual through Notice of Proposed Amendment (NPA) 2002-043. The identified non-compliances were assessed using Transport Canada Policy Letter No. 525-001 to determine if mandatory corrective action was required.

The assessment showed that certain hydraulic system failure scenarios could lead to a rapid overheat in the hydraulic lines without giving flight crew sufficient time to react before the No. 1 and No. 2 hydraulic system tubing inside the fuel tank reaches the fuel auto ignition temperature. This could result in a fuel tank explosion.

To correct the unsafe condition, this [Canadian airworthiness] directive mandates the installation of thermal fuses in the No. 1 and No. 2 hydraulic systems and the introduction of Fuel System Limitations (FSL) and Critical Design Configuration Control Limitations (CDCCL) associated with this design change.

Actions and Compliance

(f) Unless already done, do the following actions.

(1) Within 6,000 flight hours after the effective date of this AD, modify the aircraft hydraulic system by installing thermal fuses according to the Accomplishment Instructions of Bombardier Service Bulletin 670BA-29-005, Revision A, dated January 29, 2009.

(2) Before or concurrently with the actions required by paragraph (f)(1) of this AD, revise the Airworthiness Limitations Section (ALS) of the Instructions for Continued Airworthiness to incorporate the tasks identified in Table 1 of this AD as specified in Bombardier Temporary Revision (TR) 2-269, dated December 18, 2008, to Section 3, “Fuel Systems Limitations,” of Part 2 of the Bombardier CL-600-2C10, CL-600-2D15, and CL-600-2D24 Maintenance Requirements Manual. The initial compliance time for the task is within 10,000 flight hours after doing the action required by paragraph (f)(1) of this AD, or within 60 days after the effective date of this AD, whichever occurs later, and the limitation task must be accomplished thereafter at the “limiting interval” specified in Bombardier TR 2-269, dated December 18, 2008, except as provided by paragraphs (f)(4) and (g)(1) of this AD.

Table 1—Fuel System Limitation Task
Task No. | Task description
29-30-00-603 | Hydraulic System No. 1 and No. 2 Thermal Fuse: Discard the system No. 1 and No. 2 thermal fuse (Post Modsum 670T112042 or SB 670BA-29-005).

(3) Before or concurrently with the actions required by paragraph (f)(1) of this AD, revise the ALS of the Instructions for Continued Airworthiness to incorporate the CDCCL data specified in Bombardier TR 2-268, dated December 18, 2008, to Section 3, “Fuel System Limitations,” of Part 2 of the Bombardier CL-600-2C10, CL-600-2D15 and CL-600-2D24 Maintenance Requirements Manual.

Note 2: The actions required by paragraphs (f)(2) and (f)(3) of this AD may be done by inserting a copy of the TR into the maintenance requirements manual. When the TR has been included in the general revision of the maintenance program, the general revision may be inserted into the maintenance requirements manual, provided the relevant information in the general revision is identical to that in the TR, and the temporary revision may be removed.

(4) After accomplishing the actions specified in paragraphs (f)(2) and (f)(3) of this AD, no alternative limitation tasks, limitation task intervals, or CDCCLs may be used unless the limitation task, limitation task interval, or CDCCL is approved as an alternative method of compliance (AMOC) in accordance with the procedures specified in paragraph (g)(1) of this AD.

(5) Actions accomplished before the effective date of this AD in accordance with Bombardier Service Bulletin 670BA-29-005, dated December 18, 2008, are considered acceptable for compliance with the corresponding action specified in paragraph (f)(1) of this AD.

Note 3: Notwithstanding any other maintenance or operational requirements, components that have been identified as airworthy or installed on the affected airplanes before the revision of the airworthiness limitations section, as required by paragraphs (f)(1) and (f)(2) of this AD, do not need to be reworked in accordance with the CDCCLs. However, once the airworthiness limitations section has been revised, future maintenance actions on these components must be done in accordance with the CDCCLs.

FAA AD Differences

Note 4: This AD differs from the MCAI and/or service information as follows: No differences.

Other FAA AD Provisions

(g) The following provisions also apply to this AD:

(1) Alternative Methods of Compliance (AMOCs): The Manager, New York Aircraft Certification Office (ACO), FAA, has the authority to approve AMOCs for this AD, if requested using the procedures found in 14 CFR 39.19. Send information to ATTN: Christopher Alfano, Aerospace Engineer, Airframe and Propulsion Branch, ANE-171, FAA, New York Aircraft Certification Office, 1600 Stewart Avenue, Suite 410, Westbury, New York 11590; telephone (516) 228-7340; fax (516) 794-5531. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI Canadian Airworthiness Directive CF-2009-09, dated March 9, 2009; Bombardier Service Bulletin 670BA-29-005, Revision A, dated January 29, 2009; Bombardier TR 2-268, dated December 18, 2008, to Section 3, “Fuel System Limitations,” of Part 2 of the Bombardier CL-600-2C10, CL-600-2D15, and CL-600-2D24 Maintenance Requirements Manual; and Bombardier TR 2-269, dated December 18, 2008, to Section 3, “Fuel System Limitations,” of Part 2 of the Bombardier CL-600-2C10, CL-600-2D15, and CL-600-2D24 Maintenance Requirements Manual; for related information.

Issued in Renton, Washington, on September 18, 2009.
Ali Bahrami,
Manager, Transport Airplane Directorate, Aircraft Certification Service.

[FR Doc. E9-23296 Filed 9-25-09; 8:45 am]

BILLING CODE 4910-13-P